FEDERAL COMMUNICATIONS COMMISSION

47 CFR Part 73

[DA 02-908; MB Docket No. 02-58; RM-10415)

Radio Broadcasting Services; Shafter, CA.

AGENCY: Federal Communications Commission.

ACTION: Proposed rule.

SUMMARY: This document requests comment on a Petition for Rule Making filed on behalf of American Media General of Texas, Inc., licensee of Station KCOO, Channel 282A, Shafter, California, requesting the allotment of Channel 226A to Shafter, California, in order to permit it to modify its license to specify operation on Channel 226A. This is necessary because American Media General of Texas, Inc. is losing its transmitter site and has been unable to locate an available site that would accommodate operation on Channel 282A. The coordinates for the Channel 226A allotment at Shafter, California, would be 35-30-06 and 119-16-18.

DATES: Comments must be filed on or before June 10, 2002, and reply comments on or before June 25, 2002.

ADDRESSES: Secretary, Federal Communications Commission, Washington, DC, 20554. In addition to filing comments with the FCC, interested parties should serve the petitioner's counsel, as follows: Vincent J. Curtis, Jr., c/o Fletcher, Heald & Hildreth, 1300 North 17th Street, Arlington, Virginia, 22209-3801.

FOR FURTHER INFORMATION CONTACT: Robert Hayne, Mass Media Bureau (202) 418-2177.

SUPPLEMENTARY INFORMATION: This is a synopsis of the Commission's Notice of Proposed Rule Making in MB Docket No. 02-58, adopted April 17, 2002, and released April 19, 2002. The full text of this Commission action is available for inspection and copying during normal business hours in the FCC Reference Information Center at Portals II, CY-A257, 445 12th Street, SW, Washington, D.C. The complete text of this action may also be purchased from the Commission's copy contractor, Qualex International, Portals II, 445 12th Street, SW, Room CY-B402, Washington, D.C. 20554, telephone 202-863-2893, facsimile 202-863-2898, or via e-mail qualexint@aol.com. Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, See 47 CFR 1.415 and 1.420.

List of Subjects in 47 CFR

Radio Broadcasting

Federal Communications Commission.
John A. Karousos,
Assistant Chief, Audio Division, Office of Broadcast License Policy, Media Bureau.

[FR Doc. 02-10786 Filed 4-30-02; 8:45 am]

BILLING CODE 6712-01-P